DEPARTMENT OF HEALTH AND HUMAN SERVICES

Agency for Toxic Substances and Disease Registry

[ATSDR-244]

Availability of the Draft Report “Selected Information on Chemical Releases Within Great Lakes Counties Containing Areas of Concern (AOC) (Public Comment Draft 2008)”

AGENCY: Agency for Toxic Substances and Disease Registry (ATSDR), Department of Health and Human Services (HHS).

ACTION: Request for comment.

SUMMARY: This report responds to a request from the International Joint Commission (IJC), the binational organization that works to implement the Great Lakes Water Quality Agreement (GLWQA) between the U.S. and Canada. The GLWQA calls for the two nations to define “the threat to human health from critical pollutants” found in the Great Lakes basin.

This notice announces the availability of the draft report entitled “Selected Information on Chemical Releases Within Great Lakes Counties Containing Areas of Concern (AOC) (Public Comment Draft 2008)”. This report summarizes previously-published public health assessment products and chemical release information for the 26 U.S. AOCs and 54 counties that are in close geographic proximity to those AOCs. This is a descriptive report that does not make associations between health outcomes and chemical exposures. The compilation of environmental data, gathered by ATSDR and the Environmental Protection Agency (EPA), is intended to help decision-makers set future priorities.

DATES: The agency must receive comments on or before June 30, 2008. Comments can be sent via e-mail box greatlakes@cdc.gov. Comments received after close of the public comment period will be considered at the discretion of ATSDR on the basis of what is deemed to be in the best interest of the general public.

ADDRESSES: Address all comments concerning this notice to Ms. Olga Dawkins, ATSDR, Division of Toxicology and Environmental Medicine, 1600 Clifton Road, NE., MS F-32, Atlanta, Georgia 30333.

FOR FURTHER INFORMATION CONTACT: Bruce Fowler, Ph.D., Division of Toxicology and Environmental Medicine, Agency for Toxic Substances and Disease Registry, Mailstop F-32, 1600 Clifton Road, NE., Atlanta, Georgia 30333, telephone (770) 488-7250. Electronic access to these documents is also available at the ATSDR Web site: http://www.atsdr.cdc.gov/.

SUPPLEMENTARY INFORMATION: The geographic focus of this report is a set of 26 “Areas of Concern” (AOCs) along Great Lakes streams, rivers, and lakes. These AOCs are defined under the Agreement as ecologically degraded geographic areas requiring remediation. In response to the IJC request, this report presents previously published public health assessment products and chemical release information for the 54 counties in geographic proximity to one or more of the 26 U.S. AOC. Much of the available data pertain to counties, and not to AOCs. Some AOCs occupy small parts of a single county, while others may reach across more than one county. The data come from publicly available data sets provided by ATSDR and the U.S. EPA.

The GLWQA defines “critical pollutants” as substances that persist in the environment, bioaccumulate in fish and wildlife, and are toxic to humans and animals. There are 12 categories of critical pollutants. This report emphasizes the critical pollutants (within the constraints imposed by using existing data) but also presents information on other pollutants, when such information is available and relevant.

This report compiles and presents previously collected environmental data from four sources:

• Data on hazardous waste sites in AOC counties, from evaluations prepared by the Agency for Toxic Substances and Disease Registry (ATSDR);

• Chemical release data from the U.S. Environmental Protection Agency's (EPA) Toxic Release Inventory (TRI);

• Data on pollutant discharges into water, from EPA's National Pollutant Discharge Elimination System (NPDES);

• Data on “beneficial use impairments” such as wildlife and drinking water advisories, from each of the Great Lakes states. These data are presented in three ways: In text, in tables, and in Geographic Information System-based (GIS) maps created by ATSDR for each of the 26 U.S. AOCs.

This is a descriptive report that does not make associations between health outcomes and chemical exposures. The compilation of environmental data, gathered by ATSDR and EPA, is intended to help decision-makers set future priorities.

The report is available at the ATSDR Web site, http://www.atsdr.cdc.gov, along with a notice of a 60-day public comment period for the report. Following the close of the comment period, comments will be addressed and, where appropriate, changes will be incorporated into the report. The public comments and other data submitted in response to the Federal Register notice will bear the docket control number of ATSDR-244 and can be sent via e-mail box greatlakes@cdc.gov. This material is available for public inspection in the Record Room for the Agency for Toxic Substances and Disease Registry, 4770 Buford Highway, Building 106, Atlanta, Georgia 30341 (not a mailing address) between 8 a.m. and 4:30 p.m., Monday through Friday, except on legal holidays.

Dated: April 29, 2008.
Ken Rose,
Director, Office of Policy, Planning, and Evaluation, National Center for Environmental Health/Agency for Toxic Substances and Disease Registry.

[FR Doc. E8-9742 Filed 5-1-08; 8:45 am]

BILLING CODE 4163-70-P